SMALL BUSINESS ADMINISTRATION

Regulatory Fairness Hearing; Regions VI and IX—Arizona and New Mexico

AGENCY: U.S. Small Business Administration (SBA).

ACTION: Notice of open Hearing of Regions VI and IX Small Business Owners and Business Leaders.

SUMMARY: The SBA, Office of the National Ombudsman is issuing this notice to announce the date and time of a Regulatory Fairness Hearing for Regions VI and IX. This hearing is open to the public and will be conducted via teleconference.

DATES: The hearing will be held on Wednesday, October 14, 2015, from 8:30 a.m. to 5:00 p.m. (MST), providing there is not a Federal government shut-down or SBA furlough.

ADDRESSES: The hearing will be conducted via teleconference only. You can join the hearing by dialing the toll-free conference number (888) 858-2144 followed by the access code 2235366#.

SUPPLEMENTARY INFORMATION: Pursuant to the Small Business Regulatory Enforcement Fairness Act (Pub. L. 104-121), Sec. 222, SBA announces the hearing for Small Business Owners, Business Leaders, Business Organizations, Trade Associations, Chambers of Commerce and related organizations serving small business concerns to report experiences regarding unfair or excessive Federal regulatory enforcement issues affecting their members.

FOR FURTHER INFORMATION CONTACT: The hearing is open to the public; however, advance notice of participation is requested. Anyone wishing to testify at the hearing must contact José Méndez by October 9, 2015, in writing, by fax, or email in order to be placed on the agenda. For further information, please contact José Méndez, Case Management Specialist, Office of the National Ombudsman, 409 3rd Street SW., Suite 7125, Washington, DC 20416, by fax (202) 481-5719, by email at ombudsman-events@sba.gov, or by phone (202) 205-6178. Additionally, if you need accommodations because of a disability, translation services, or require additional information, please contact José Méndez as well at least 1 week in advance.

For more information on the Office of the National Ombudsman, see our Web site at www.sba.gov/ombudsman.

Sincerely,

Dated: September 29, 2015.
Miguel J. L'Heureux,
SBA Committee Management Officer.

[FR Doc. 2015-25243 Filed 10-2-15; 8:45 am]

BILLING CODE 8025-01-P